DEPARTMENT OF TRANSPORTATION

Federal Aviation Administration

14 CFR Part 71

[Docket No. FAA-2003-16342; Airspace Docket No. 03-AAL-15]

Establishment of Class E Airspace; Southeast, AK

AGENCY: Federal Aviation Administration (FAA), DOT.

ACTION: Final rule.

SUMMARY: This action establishes Class E airspace over Southeast Alaska. Creation of Class E controlled airspace is needed to contain aircraft that will be flying new Area Navigation (RNAV) Routes created in support of the Capstone Initiative. The RNAV Routes established throughout Southeast Alaska will require the use of Global Positioning System (GPS) Wide Area Augmentation System (WAAS) avionics. Anchorage Air Route Traffic Control Center (ANC ARTCC) will utilize this controlled airspace to provide Air Traffic Control (ATC) services to aircraft that will be flying Southeast Alaska RNAV Routes under Instrument Flight Rules (IFR). The RNAV Routes will permit flight at significantly lower altitudes than those available on airways constructed from land based Navigational Aids (NAVAIDS).

EFFECTIVE DATE: 0901 UTC, June 10, 2004.

FOR FURTHER INFORMATION CONTACT: Derril Bergt, AAL-531, Federal Aviation Administration, 222 West 7th Avenue, Box 14, Anchorage, AK 99513-7587; telephone number (907) 271-2796; fax: (907) 271-2850; email: Derril.Bergt@faa.gov. Internet address: http://www.alaska.faa.gov/at.

SUPPLEMENTARY INFORMATION:

History

On Wednesday, November 19, 2003, the FAA proposed to revise part 71 of the Code of Federal Regulations (14 CFR part 71) to create new Class E airspace extending upward from 1,200 ft. above the surface over Southeast AK (68 FR 65225). The action was necessary because Class E airspace is needed that is sufficient in size to contain aircraft while flying new RNAV Routes (GPS-WAAS Required) that will be established in support of the Capstone program. The Class E airspace created by this action will enable ATC to provide IFR service to aircraft flying enroute and connecting to Standard Instrument Approach Procedures (SIAP) to and from various airports throughout Southeast Alaska. The effect of this proposal is to: (1) Provide adequate controlled airspace for commercial air carriers and others conducting IFR operations in Southeast Alaska, (2) validate new operational procedures and equipment in the IFR environment, (3) provide an enroute IFR structure for operations that can be flown safely at significantly lower altitudes than those permitted on airways defined on land based NAVAIDS, and (4) provide IFR access via Public and Special approach and departure procedures to airports not otherwise able to connect to the IFR infrastructure. ATC will provide IFR services within the new Class E airspace. The establishment of Class E airspace in this rule will have an impact on pilot's flight visibility and cloud avoidance requirements while flying under VFR, during the day above 1,200 feet Above Ground Level (AGL) and below 10,000 feet Mean Sea Level (MSL). The pilot's flight visibility requirement increases to three (3) statute miles. VFR weather minimums are shown in the following table extracted from 14 CFR 91.155 Basic VFR weather minimums:

Basic VFR Weather Minimums
| Flight Visibility (statute mile) | Distance from clouds
Class G (uncontrolled):
1,200 feet or less AGL, day | 1 | Clear of Clouds.
1,200 feet or less AGL, night | 3 | 500 feet below. 1,000 feet above. 2,000 feet horizontal.
1,200 feet or more and less than 10,000 feet MSL, day | 1 | 500 feet below. 1,000 feet above. 2,000 feet horizontal.
1,200 feet or more and less than 10,000 feet MSL, night | 3 | 500 feet below. 1,000 feet above. 2,000 feet horizontal.
More than 1,200 feet AGL and at or above 10,000 feet MSL | 5 | 1,000 feet below. 1,000 feet above. 1 statute mile horizontal.
Class E (controlled):
Less than 10,000 feet MSL | 3 | 500 feet below. 1,000 feet above. 2,000 feet horizontal.
At or above 10,000 feet MSL | 5 | 1,000 feet below. 1,000 feet above. 1 statute mile horizontal.

Interested parties were invited to participate in this rulemaking proceeding by submitting written comments on the proposal to the FAA. The comment period closed on January 5, 2004.

One letter commenting on the proposal was received. The commenter made the following recommendations:

Return Petersburg and Wrangell CTAF to Sitka Radio.

Return Gustavus CTAF to Juneau Radio.

The FAA disagrees with these two proposals. Previous evaluations of the assignments of CTAF frequencies to Juneau, Gustavus, Sitka, Wrangell, and Petersburg have concluded that CTAF and In-flight Position frequency congestion have been a problem when too many airports share a single frequency. This is the case at Juneau and Gustavus, and at Wrangell, Petersburg and Sitka. The nature of communications between the FSS/AFSS and pilots frequently require lengthy transmissions (flight-plans, pilot reports, weather briefings, etc.) that tie up frequencies when other information needs to be exchanged in a timely manner, e.g., CTAF traffic information. It has become necessary to separate the CTAFs from the In-flight Position frequencies in order to accomplish and/or allow all the functions that are needed. This is especially true in the busy summer months. Users benefit from the frequency separation by being able to exchange traffic with each other on frequencies that are unimpeded by lengthy transmissions not pertinent to airport environs.

Evaluate the proposed ZAN [Anchorage Air Route Traffic Control Center] Sector 8/Sector 68 divide between Petersburg and Wrangell so that one controller handles the IFR and Special VFR traffic throughout SE Alaska, or at a minimum, between Petersburg and Wrangell.

The FAA has accomplished this action and has made a split between high altitude and low altitude traffic. Sector 8 now handles all SE Alaska traffic (below FL270), whether IFR or Special VFR. Sector 68 handles the majority of the high-altitude (FL 270 and above) traffic that used to be handled by Sector 8.

With anticipated increase of IFR traffic into Juneau, staff the Juneau Tower full time. (In the past, allowing JNU FSS personnel to work out of JNU Tower was beneficial and may be an adequate alternative to full-time staffing of the Tower.)

The FAA disagrees with this comment. Juneau Airport Traffic Control Tower (JNU ATCT) is staffed to match airport demand. However, an enhancement to airport advisories from the JNU AFSS that are currently available when the JNU ATCT is closed, are planned. A one-year test using ADS-B surveillance for airborne traffic and ground vehicles, that are appropriately equipped, on the JNU Airport is planned to begin in the summer of 2005. Transponder equipped aircraft will be included when milti-lateration becomes available.

In the past, JNU AFSS personnel have worked in JNU ATCT only for short periods when the FSS/AFSS was unavailable due to construction activities, e.g., when the FSS was decommissioned and the AFSS was commissioned. The FAA has not routinely staffed the JNU ATCT with FSS or AFSS personnel. This concept would require extensive communications and equipment remodeling, as well as re-certification of personnel. JNU ATCT does not have the room to house the equipment necessary to support the AFSS function.

The area will be depicted on aeronautical charts for pilot reference. The coordinates for this airspace docket are based on North American Datum 83. The Class E airspace areas designated as 700/1200 foot transition areas are published in paragraph 6005 of FAA Order 7400.9L, Airspace Designations and Reporting Points, dated September 2, 2003, and effective September 16, 2003, which is incorporated by reference in 14 CFR 71.1. The Class E airspace designation listed in this document will be revoked and revised subsequently in the Order.

The Rule

This revision to 14 CFR part 71 establishes Class E airspace over Southeast Alaska within an area beginning at lat. 58°54′25.2″ N. long. 137°31′55.3″ to lat. 58°38′33.2″ N., long. 138°12′21.25″ W., thence southeast along the offshore airspace 12 nautical miles west of and parallel to the shoreline to the point of intersection with the Alaska/Canada Border, thence along the Alaska/Canada Border to the point of beginning excluding that airspace designated for federal airways.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 6006 En Route Domestic Airspace Areas.

* * * * *

AAL AK E6 Southeast, AK [New]

That airspace extending upward from 1,200 feet AGL to the base of overlaying Class E airspace above 14,500 feet MSL, within an area beginning at lat. 58°54′25.2″ N. long. 137°31′55.3″ W. to lat. 58°38′33.2″ N. long. 138°12′21.25″ W., thence southeast along the offshore airspace 12 nautical miles west of and parallel to the shoreline to the point of intersection with the Alaska, United States/Canada Border, thence along the Alaska, United States/Canada Border to the point of beginning excluding that airspace designated for federal airways and excluding that airspace within the Ketchikan, AK Class E5, the Klawock, AK Class E5, the Wrangell, AK Class E5, the Petersburg, AK Class E5, the Kake, AK Class E5, the Sitka, AK Class E5, and the Juneau, AK Class E5 airspace areas.

* * * * *

Issued in Anchorage, AK, on February 13, 2004.
Judith G. Heckl,
Manager, Air Traffic Division, Alaskan Region.

[FR Doc. 04-4175 Filed 2-24-04; 8:45 am]

BILLING CODE 4910-13-P